DEPARTMENT OF TRANSPORTATION

Federal Aviation Administration

14 CFR Part 39

[Docket No. 2000-NM-420-AD; Amendment 39-13092; AD 2003-06-05]

RIN 2120-AA64

Airworthiness Directives; Saab Model SAAB SF340A Series Airplanes

AGENCY: Federal Aviation Administration, DOT.

ACTION: Final rule.

SUMMARY: This amendment adopts a new airworthiness directive (AD), applicable to certain Saab Model SAAB SF340A series airplanes, that requires modifying the structure of the air recirculation fan support, and replacing the air recirculation fans with two upgraded air recirculation fans; or replacing the air recirculation fans with two new air recirculation fans with brushless motors. This amendment is prompted by issuance of mandatory continuing airworthiness information by a foreign civil airworthiness authority. The actions specified by this AD are intended to prevent incidents of smoke or a burning smell in the cabin during flight, caused by incorrect brush insulation in the motors of the air recirculation fans that provide air to the flight compartment and the passenger compartment.

DATES: Effective April 30, 2003.

The incorporation by reference of certain publications listed in the regulations is approved by the Director of the Federal Register as of April 30, 2003.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Gary Lium, Aerospace Engineer, International Branch, ANM-116, FAA, Transport Airplane Directorate, 1601 Lind Avenue, SW., Renton, Washington 980545-4056; telephone (425) 227-1112; fax (425) 227-1149.

SUPPLEMENTARY INFORMATION: A proposal to amend part 39 of the Federal Aviation Regulations (14 CFR part 39) to include an airworthiness directive (AD) that is applicable to certain Saab Model SAAB SF340A series airplanes was published as a supplemental notice of proposed rulemaking (NPRM) in the Federal Register on April 3, 2002 (67 FR 15758). That action proposed to require modifying the structure of the air recirculation fan support, and replacing the air recirculation fans with two upgraded air recirculation fans; or replacing the air recirculation fans with two new air recirculation fans with brushless motors.

Comments

Interested persons have been afforded an opportunity to participate in the making of this amendment. Due consideration has been given to the comment received.

Request to Reference Alternative Part Numbers

One commenter, the airplane manufacturer, states that it has issued Revision 03 of Saab Service Bulletin 340-21-018, dated March 22, 2001. The commenter notes that this service bulletin specifies alternative recirculation fans with brushless motors having part number (P/N) EVCTA465, EVCTA465A, or EVCTA465B. The commenter also states that P/N 9302882-002, as listed in the supplemental NPRM, is an internal Saab Aircraft AB P/N, which should not to be used.

From this comment, the FAA infers that the commenter is requesting that the supplemental NPRM be revised to reference the P/Ns of the alternative recirculation fans, rather than the internal Saab part number. We agree and have revised the final rule accordingly.

Request To Revise Cost Impact

The commenter requests that we revise the Cost Impact figures. The commenter states that, based on 7 work hours with an average labor cost of $60 and $59,360 for a kit with two new fans with brushless motors, the cost of the replacement with new fans with brushless motors should be $59,780 per airplane.

We agree and have revised the Cost Impact estimate in this final rule.

Request for Editorial Changes

The commenter also states that the air recirculation fans are “for” the flight and passenger compartments, and that they are not located in these areas. From this comment, we infer that the commenter is requesting that the supplemental NPRM be revised to clarify that the recirculation fans provide air to the flight and passenger compartments, rather than that the fans are actually located in those compartments. We agree and have revised the phrase “air recirculation fans in the flight compartment and the passenger compartment” to “air recirculation fans that provide air to the flight compartment and the passenger compartment” throughout the final rule.

In addition, the commenter also states that the fans with brushless motors are different types of fans, not “modified” fans. From this comment, we infer that the commenter is requesting that we revise the wording in the supplemental NPRM from “modified” air recirculation fans to “new” air recirculation fans. We agree and have revised the final rule accordingly.

Conclusion

After careful review of the available data, including the comments noted above, we have determined that air safety and the public interest require the adoption of the rule with the changes described previously. We have determined that these changes will neither increase the economic burden on any operator nor increase the scope of the AD.

Cost Impact

The FAA estimates that 35 airplanes of U.S. registry will be affected by this AD and that the average labor rate is $60 per work hour.

It will take approximately 4 work hours per airplane to accomplish the required removal of the two air recirculation fans having P/N C209-690B, C209-690B1, or C209-690C, and their replacement with two upgraded air recirculation fans having P/N C209-690D. Based on these figures, the cost impact of the required replacement on U.S. operators is estimated to be $8,400, or $240 per airplane.

It will take approximately another 3 work hours per airplane to accomplish the required modification of the fan support structure. Based on these figures, the cost impact of the required modification on U.S. operators is estimated to be $6,300, or $180 per airplane.

It will take approximately 7 work hours per airplane to accomplish the removal and replacement of the two air recirculation fans with new, brushless motors. The cost of the brushless motors is $59,360 per airplane. Based on these figures, the cost impact of the optional modification on U.S. operators is estimated to be $59,780 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-06-05 Saab Aircraft AB: Amendment 39-13092. Docket 2000-NM-420-AD.

Applicability: Model SAAB SF340A series airplanes, serial numbers -004 through -108 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent incidents of smoke or a burning smell in the cabin during flight caused by incorrect brush insulation in the motors of the air recirculation fans that provide air to the flight compartment and the passenger compartment, accomplish the following:

Replacement

(a) Within 1,000 flight hours after the effective date of this AD: Perform either paragraph (a)(1) or (a)(2) of this AD.

(1) Remove the two air recirculation fans having part number (P/N) C209-690B, C209-690B1, or C209-690C, modify the structure of the fan support, and replace the fans with two upgraded air recirculation fans having P/N C209-690D, in accordance with the Accomplishment Instructions of Saab Service Bulletin 340-21-039, Revision 01, dated April 18, 2001.

Note 2: The upgraded fans are larger than the original fans and will interfere with the structure of the fan support. A modification to the structure of the fan support to include a small cutout is contained in Paragraph 2.C. of Saab Service Bulletin 340-21-039, Revision 01.

Note 3: The modification to the structure of the fan support to include a small cutout is also described in Saab Service Bulletin SF340-21-001, Revision 1, dated February 20, 1985. For those airplanes on which the requirements of paragraph (a)(1) have been performed prior to the effective date of this AD, modification of the structure of the fan support to include a small cutout in accordance with that service bulletin is acceptable as a means of compliance with the applicable requirements of paragraph (a)(1) of this AD.

(2) Remove the two air recirculation fans having P/N C209-690B, C209-690B1, or C209-690C, and replace the fans with two new air recirculation fans with brushless motors having P/N EVCTA465, EVCTA465A, or EVCTA465B (these alternative fans could have been previously identified with the internal Saab P/N 9302882-002), in accordance with the Accomplishment Instructions of Saab Service Bulletin 340-21-018, Revision 02, dated June 21, 2000.

Parts Installation

(b) As of the effective date of this AD, no air recirculation fans having P/N C209-690B, C209-690B1, or C209-690C may be installed on any airplane.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Saab Service Bulletin 340-21-039, Revision 01, dated April 18, 2001; or Saab Service Bulletin 340-21-018, Revision 02, dated June 21, 2000; as applicable. This incorporation by reference was approved by the Director of the Federal Register in accordance with 5 U.S.C. 552(a) and 1 CFR part 51. Copies may be obtained from Saab Aircraft AB, SAAB Aircraft Product Support, S-581.88, Linköping, Sweden. Copies may be inspected at the FAA, Transport Airplane Directorate, 1601 Lind Avenue, SW., Renton, Washington; or at the Office of the Federal Register, 800 North Capitol Street, NW., suite 700, Washington, DC.

Note 5: The subject of this AD is addressed in Swedish airworthiness directive 1-160 R1, dated June 13, 2001.

Effective Date

(f) This amendment becomes effective on April 30, 2003.

Issued in Renton, Washington, on March 18, 2003.
Michael J. Kaszycki,
Acting Manager, Transport Airplane Directorate, Aircraft Certification Service.

[FR Doc. 03-6994 Filed 3-25-03; 8:45 am]

BILLING CODE 4910-13-P